ENVIRONMENTAL PROTECTION AGENCY

[OEI-2005-0007; FRL-8000-5]

Agency Information Collection Activities; Submission to OMB for Review and Approval; Toxic Chemical Release Reporting, Alternate Threshold for Low Annual Reportable Amounts (Form A) (Renewal), EPA ICR Number 1704.08, OMB Control Number 2070-0143

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on January 31, 2006. Under OMB regulations, the Agency may continue to conduct or sponsor the collection of information while this submission is pending at OMB. This ICR describes the nature of the information collection and its estimated burden and cost.

DATES: Additional comments may be submitted on or before December 23, 2005.

ADDRESSES: Submit your comments, referencing docket ID number OEI-2005-0007, to (1) EPA online using EDOCKET (our preferred method), by e-mail to oei.docket@epa.gov or by mail to: EPA Docket Center, Environmental Protection Agency, OEI Docket 28221T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Cassandra Vail, Toxics Release Inventory Program Division, Office of Information Analysis and Access (2844T), Environmental Protection Agency, 1200 Pennsylvania Ave., NW., Washington, DC 20460; telephone number: 202-566-0753; e-mail address: vail.cassandra@epa.gov.

SUPPLEMENTARY INFORMATION: EPA has submitted the following ICR to OMB for review and approval according to the procedures prescribed in 5 CFR 1320.12. On August 12, 2005, (70 FR 47195) EPA sought comments on this ICR pursuant to 5 CFR 1320.8(d). EPA received only one positive comment on this ICR during the comment period and EPA agrees with commenter that ICR should be approved.

EPA has established a public docket for this ICR under Docket ID No. OEI-2005-0007, which is available for public viewing at the OEI Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the OEI Docket is (202) 566-1752. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Toxic Chemical Release Reporting, Alternate Threshold for Low Annual Reportable Amounts (Form A) (Renewal)

Abstract: The Emergency Planning and Community Right-to-Know Act (EPCRA) section 313 requires certain facilities that manufacture, process, or otherwise use certain toxic chemicals in excess of specified threshold quantities to report their environmental releases of such chemicals annually. Each such facility must file a separate report for each such chemical.

In accordance with the authority provided by EPCRA, EPA has established an alternate reporting threshold for those facilities with low amounts of a listed toxic chemical in wastes. A facility that otherwise meets the current reporting thresholds, but estimates that the total amount of the chemical that is released, disposed of, treated, recycled, or combusted for energy recovery does not exceed 500 pounds per year, and that the chemical was manufactured, processed, or otherwise used in an amount not exceeding 1 million pounds during the reporting year, can take advantage of reporting under the alternate threshold option for that chemical for that reporting year.

Each qualifying facility that chooses to apply the alternate threshold may file the Form A Certification Statement (EPA Form 9350-2) in lieu of a complete TRI reporting Form R (EPA Form 9350-1). In submitting the Form A Certification Statement, the facility certifies that the sum of the amount of EPCRA section 313 chemical released, disposed of, treated, recycled, or combusted for energy recovery does not exceed 500 pounds for the reporting year, and that the chemical was manufactured, processed, or otherwise used in an amount not exceeding 1 million pounds during the reporting year. Use of the Form A Certification Statement represents a substantial savings to respondents, both in burden hours and in labor costs. Form A was recently modified by certain changes that were promulgated in the TRI Reporting Forms Modification Rule (70 FR 39931). These changes eliminated certain fields from the Form A.

The Form A Certification Statement provides communities with information that the chemical is being manufactured, processed, or otherwise used at facilities. Additionally, the Form A Certification Statement provides compliance monitoring and enforcement programs and other interested parties with a means to track chemical management activities and verify overall compliance with the rule. Responses to this collection of information are mandatory (see 40 CFR part 372) and facilities subject to reporting must submit either a Form A Certification Statement or a Form R.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 83.6 hours per first year response and 20.5 hours per subsequent year response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners or operators of certain facilities that manufacture process, or otherwise use certain specified toxic chemicals and chemical categories are required to report annually on the environmental releases, transfers, and waste management activities for such chemicals.

Estimated Number of Respondents: 4920.

Frequency of Response: Annual.

Estimated Total Annual Hour Burden: 259,192 burden hours.

Estimated Total Annual Cost: $11,919,489 in labor cost.

Changes in the Estimates: There is a decrease of 22,847 hours in the total estimated burden currently identified in the OMB Inventory of Approved ICR Burdens. This decrease is due to adjustments to estimates in the number of responses (from 5,000 responses to 4,920 responses) and to first and subsequent year form completion burden reduction due to the TRI Reporting Forms Modification Rule (first year form completion fell from 2.1 hours to 1.6 hours and subsequent year form completion fell from 1.4 hours to 1.3 hours).

Dated: November 15, 2005.
Joseph A. Sierra,
Acting Director, Collection Strategies Division.

[FR Doc. 05-23220 Filed 11-22-05; 8:45 am]

BILLING CODE 6560-50-P